DEPARTMENT OF COMMERCE

International Trade Administration

[C-570-968]

Aluminum Extrusions From the People's Republic of China: Preliminary Results of Countervailing Duty Administrative Review; 2012

AGENCY: Enforcement and Compliance, International Trade Administration, Department of Commerce.

SUMMARY: The Department of Commerce (the Department) is conducting an administrative review of the countervailing duty (CVD) order on aluminum extrusions from the People's Republic of China (PRC). The period of review (POR) is January 1, 2012, through December 31, 2012. We preliminary determine that the Alnan Companies ¹ and Jiangsu Changfa Refrigeration Co., Ltd. (Jiangsu Changfa) received countervailable subsidies during the POR. Interested parties are invited to comment on these preliminary results of review.

¹ The Alnan Companies are Alnan Aluminum Co., Ltd. (Alnan Aluminum), Alnan Aluminum Foil Co., Ltd. (Alnan Foil), Alnan (Shanglin) Industry Co., Ltd. (Shanglin Industry), and Shanglin Alnan Aluminum Comprehensive Utilization Power Co., Ltd. (Shanglin Power). Kromet International Inc., one of the selected mandatory respondents in this administrative review, reported that it is a Canada-based company that sold subject merchandise produced by the Alnan Companies to the United States during the review period.

DATES: Effective: June 25, 2014.

FOR FURTHER INFORMATION CONTACT: Kristen Johnson and Robert Copyak, AD/CVD Operations, Office III, Enforcement and Compliance, International Trade Administration, U.S. Department of Commerce, 14th Street and Constitution Avenue NW., Washington, DC 20230; telephone (202) 482-4793 and (202) 482-2209, respectively.

Scope of the Order

The merchandise covered by the Order ² is aluminum extrusions which are shapes and forms, produced by an extrusion process, made from aluminum alloys having metallic elements corresponding to the alloy series designations published by The Aluminum Association commencing with the numbers 1, 3, and 6 (or proprietary equivalents or other certifying body equivalents).³

² See Aluminum Extrusions From the People's Republic of China: Countervailing Duty Order, 76 FR 30653 (May 26, 2011) (Order).

³ For a complete description of the scope of the Order, see accompanying Decision Memorandum for the Preliminary Results of the Countervailing Duty Administrative Review: Aluminum Extrusions from the People's Republic of China, dated concurrently with this notice (Preliminary Decision Memorandum).

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 7609.00.00.00, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8516.90.50.00, 8516.90.80.50, 8517.70.00.00, 8529.90.73.00, 8529.90.97.60, 8538.10.00.00, 8543.90.88.80, 8708.29.50.60, 8708.80.65.90, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of the order is dispositive.⁴

⁴ See Order.

The Preliminary Decision Memorandum is a public document and is on file electronically via Enforcement and Compliance's Antidumping and Countervailing Duty Centralized Electronic Service System (IA ACCESS). IA ACCESS is available to registered users at http://iaaccess.trade.gov and is available to all parties in the Central Records Unit, Room 7046 of the main Department of Commerce building. In addition, a complete version of the Preliminary Decision Memorandum can be accessed directly on the internet at http://enforcement.trade.gov/frn/index.html. The signed Preliminary Decision Memorandum and the electronic version of the Preliminary Decision Memorandum are identical in content.

Methodology

The Department conducted this review in accordance with section 751(a)(1)(A) of the Tariff Act of 1930, as amended (the Act). For each of the subsidy programs found countervailable, we preliminarily find that there is a subsidy, i.e., a government-provided financial contribution that gives rise to a benefit to the recipient, and that the subsidy is specific.⁵

⁵ See sections 771(5)(B) and (D) of the Act regarding financial contribution; section 771(5)(E) of the Act regarding benefit; and section 771(5A) of the Act regarding specificity.

For a full description of the methodology underlying all of the Department's conclusions, see Preliminary Decision Memorandum.

Preliminary Rate for Non-Selected Companies Under Review

There are 59 companies for which a review was requested and not rescinded, but were not selected as mandatory respondents. We preliminarily did not calculate the non-selected rate by weight-averaging the rates of the Alnan Companies and Jiangsu Changfa, companies selected for individual examination (mandatory respondents), because doing so risks disclosure of proprietary information. We, therefore, calculated an average rate using the mandatory respondents' publicly-ranged sales data for 2012. For further information on the calculation of the non-selected rate, see “Preliminary Ad Valorem Rate for Non-Selected Companies under Review” in the Preliminary Decision Memorandum.

Preliminary Results of the Review

As a result of this review, we preliminarily determine the listed net subsidy rates for 2012:

⁶ The Alnan Companies are the producer of subject merchandise, and Kromet is the exporter.

Company | 2012 Ad valorem rate (percent)
Alnan Aluminum Co., Ltd. (Alnan Aluminum), Alnan Aluminum Foil Co., Ltd. (Alnan Foil), Alnan (Shanglin) Industry Co., Ltd. (Shanglin Industry), and Shanglin Alnan Aluminum Comprehensive Utilization Power Co., Ltd. (Shanglin Power) (collectively, the Alnan Companies) and Kromet International Inc. (Kromet) ⁶ | 10.72
Jiangsu Changfa Refrigeration Co., Ltd | 5.83
Allied Maker Limited | 9.54
Bracalente Metal Products (Suzhou) Co. Ltd | 9.54
Changzhou Changzheng Evaporator Co., Ltd | 9.54
China Square Industrial Ltd. and Zhaoqing China Square Industry Limited | 9.54
Chiping One Stop Industrial & Trade Co., Ltd | 9.54
Cixi Handsome Pool Appliance Co., Ltd | 9.54
Classic & Contemporary Inc | 9.54
DongChuan Swimming Pool Equipments Co., Ltd | 9.54
Dongguan Aoda Aluminum Co. Ltd | 9.54
Dongguan Golden Tiger | 9.54
Dongguan Golden Tiger Hardware Industrial Co., Ltd | 9.54
Dynabright Int'l Group (HK) Limited | 9.54
Ever Extend Ent. Ltd | 9.54
Foshan Nanhai ZhaoYa Decorative Aluminum Ltd | 9.54
Guang Ya Aluminum Industries Co. Ltd. and Kong Ah International Company Limited (collectively, the Guang Ya Companies) | 9.54
Guang Zhou Sang Yi Imp. & Exp. Co., Ltd | 9.54
Guangdong Hao Mei Aluminum Co., Ltd | 9.54
Guangdong Jianmei Aluminum Profile Company Limited | 9.54
Guangdong Nanhai Foodstuffs Imp. & Exp. Co., Ltd | 9.54
Guangdong Weiye Aluminum Factory Co., Ltd | 9.54
Guangdong Whirlpool Electrical Appliances Co., Ltd | 9.54
Guangzhou Jangho Curtain Wall System Engineering Co., Ltd. and Jangho Curtain Wall Hong Kong Ltd | 9.54
Hanyung Alcobis Co., Ltd | 9.54
Hanyung Metal (Suzhou) Co., Ltd | 9.54
Hoff Associates Mfg Reps Inc. (dba, Global Point Technology, Inc.) and Global Point Technology (Far East) Limited | 9.54
iSource Asia Limited (iSource) | 9.54
Jiaxing Jackson Travel Products Co., Ltd | 9.54
Jiuyan Co., Ltd | 9.54
Justhere Co., Ltd | 9.54
Kam Kiu Aluminum Products Sdn Bhd | 9.54
Metaltek Group Co., Ltd | 9.54
Metaltek Metal Industry Co., Ltd | 9.54
Midea International Trading Co., Ltd | 9.54
Nidec Sankyo (Zhejiang) Corporation | 9.54
Ningbo Splash Pool Appliance Co., Ltd | 9.54
Permasteelisa South China Factory (Permasteelisa China) and Permasteelisa Hong Kong Limited | 9.54
Polight Industrial Ltd | 9.54
Pushuo Mfg Co., Ltd./dba/Huiren Mfg Co Ltd | 9.54
Shanghai Hong-hong Lumber Co | 9.54
Shanghai Tongtai Precise Aluminum Alloy Manufacturing Co., Ltd | 9.54
Shenyang Yuanda Aluminum Industry Engineering Co., Ltd | 9.54
Sihui Shi Guo Yao Aluminum Co., Ltd | 9.54
Sincere Profit Limited | 9.54
Skyline Exhibit Systems (Shanghai) Co. Ltd | 9.54
Taishan City Kam Kiu Aluminium Extrusion Co. Ltd | 9.54
Taizhou Lifeng Manufacturing Corporation | 9.54
tenKsolar (Shanghai) Co., Ltd | 9.54
Tianjin Jinmao Import & Export Corp., Ltd | 9.54
Tiazhou Lifeng Manufacturing Corporation | 9.54
Traffic Brick Network, LLC | 9.54
T-World Industries Limited | 9.54
Union Industry (Asia) Co., Ltd | 9.54
Uniton Aluminium (HK) Ltd., Uniton Investment Ltd., and ZMC Aluminum Factory Limited | 9.54
Wenzhou Shengbo Decoration & Hardware | 9.54
Whirlpool (Guangdong) | 9.54
Whirlpool Canada L.P. | 9.54
Whirlpool Microwave Products Development Ltd | 9.54
Zhaoqing New Zhongya Aluminum Co., Ltd, (New Zhongya) (also known as Guangdong Zhongya Aluminum Company Ltd.), Zhongya Shaped Aluminum (HK) Holding Limited, and Karlton Aluminum Company Ltd. (collectively, the Zhongya Companies) | 9.54
Zhejiang Dongfeng Refrigeration Components Co., Ltd | 9.54
Dragonluxe Limited | 154.84
Henan New Kelong Electrical Appliances Co., Ltd | 154.84
Press Metal International Ltd | 154.84
Tianjin Ruxin Electric Heat Transmission Technology Co., Ltd | 154.84

Disclosure and Public Comment

The Department will disclose to parties to this proceeding the calculations performed in reaching the preliminary results within five days of the date of publication of these preliminary results.⁷ Interested parties may submit written arguments (case briefs) within 30 days of publication of the preliminary results and rebuttal comments (rebuttal briefs) within five days after the time limit for filing the case briefs.⁸ Pursuant to 19 CFR 351.309(d)(2), rebuttal briefs must be limited to issues raised in the case briefs. Parties who submit arguments are requested to submit with the argument: (1) Statement of the issue; (2) a brief summary of the argument; and (3) a table of authorities.⁹

⁷ See 19 CFR 351.224(b).

⁸ See 19 CFR 351.309(c)(1)(ii) and 19 CFR 351.309(d)(1).

⁹ See 19 CFR 351.309(c)(2) and 19 CFR 351.309(d)(2).

Interested parties who wish to request a hearing, or to participate if one is requested, must submit a written request to the Assistant Secretary for Enforcement and Compliance, U.S. Department of Commerce within 30 days after the date of publication of this notice.¹⁰ Requests should contain the party's name, address, and telephone number, the number of participants, and a list of the issues to be discussed. If a request for a hearing is made, we will inform parties of the scheduled date for the hearing, which will be held at the U.S. Department of Commerce, 14th Street and Constitution Avenue NW., Washington, DC 20230, at a time and location to be determined.¹¹ Parties should confirm by telephone the date, time, and location of the hearing.

¹⁰ See 19 CFR 351.310(c).

¹¹ See 19 CFR 351.310.

Parties are reminded that briefs and hearing requests are to be filed electronically using IA ACCESS and that electronically filed documents must be received successfully in their entirety by 5:00 p.m. Eastern Time on the due date.

Unless the deadline is extended pursuant to section 751(a)(3)(A) of the Act, the Department intends to issue the final results of this administrative review, including the results of our analysis of the issues raised by parties in their comments, within 120 days after publication of these preliminary results.

Assessment Rates

Upon issuance of the final results, the Department shall determine, and U.S. Customs and Border Protection (CBP) shall assess, CVDs on all appropriate entries covered by this review. We intend to issue instructions to CBP 15 days after publication of the final results of this review.

Cash Deposit Instructions

The Department also intends to instruct CBP to collect cash deposits of estimated CVDs in the amounts indicated above for each company listed on shipments of subject merchandise entered, or withdrawn from warehouse, for consumption on or after the date of publication of the final results of this review. For all non-reviewed firms, we will instruct CBP to collect cash deposits of estimated CVDs at the most recent company-specific or all-others rate applicable to the company, as appropriate. These cash deposit requirements, when imposed, shall remain in effect until further notice.

This administrative review and notice are in accordance with sections 751(a)(1) and 777(i)(1) of the Act and 19 CFR 351.213.

Dated: June 18, 2014.
Ronald K. Lorentzen,
Acting Assistant Secretary for Enforcement and Compliance.

Appendix

List of Topics Discussed in the Preliminary Decision Memorandum

1. Summary

2. Background

3. Scope of the Order

4. Subsidy Valuation Information

5. Loan Benchmark Rates

6. Use of Facts Otherwise Available and Adverse Inferences

7. Analysis of Programs

8. Preliminary Ad Valorem Rate for Non-Selected Companies Under Review

9. Preliminary Ad Valorem Rate for Non-Cooperative Companies Under Review

10. Conclusion

[FR Doc. 2014-14861 Filed 6-24-14; 8:45 am]

BILLING CODE 3510-DS-P